DEPARTMENT OF COMMERCE

Foreign-Trade Zones Board

[B-35-2020]

Foreign-Trade Zone (FTZ) 105—Providence, Rhode Island; Notification of Proposed Production Activity (Night Vision Camera Systems); Jamestown, Rhode Island

Night Vision Technology Solutions, LLC (Night Vision Technology) submitted a notification of proposed production activity to the FTZ Board for its facility in Jamestown, Rhode Island. The notification conforming to the requirements of the regulations of the FTZ Board (15 CFR 400.22) was received on May 29, 2020.

Night Vision Technology's facility is located within Subzone 105B. The facility is used for the production of night vision camera systems. Pursuant to 15 CFR 400.14(b), FTZ activity would be limited to the specific foreign-status materials and components and specific finished products described in the submitted notification (as described below) and subsequently authorized by the FTZ Board.

Production under FTZ procedures could exempt Night Vision Technology from customs duty payments on the foreign-status components used in export production. On its domestic sales, for the foreign-status materials/components noted below, Night Vision Technology would be able to choose the duty rates during customs entry procedures that apply to electro-optical infra-red (E.O./IR) camera systems containing thermal cameras, often with the addition of visible cameras, laser range finders, and/or analytic software; handheld uncooled longwave infra-red (LWIR) thermal monoculars; uncooled thermal camera modules; and, temperature measurement devices using thermal sensors (duty-free). Night Vision Technology would be able to avoid duty on foreign-status components which become scrap/waste. Customs duties also could possibly be deferred or reduced on foreign-status production equipment.

The components and materials sourced from abroad include: multi-contact pinned cable connectors; enclosures and housings for camera systems; uncooled LWIR thermal sensors; and, germanium lenses for thermal sensors (duty rate ranges from duty-free to 4.4%). The request indicates the materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is July 20, 2020.

A copy of the notification will be available for public inspection in the “Reading Room” section of the Board's website, which is accessible via www.trade.gov/ftz.

For further information, contact Christopher Wedderburn at Chris.Wedderburn@trade.gov or (202) 482-1963.

Dated: June 3, 2020.
Andrew McGilvray,
Executive Secretary.

[FR Doc. 2020-12426 Filed 6-8-20; 8:45 am]

BILLING CODE 3510-DS-P